DEPARTMENT OF ENERGY

Federal Energy Regulatory Commission

[Docket No. CP14-96-000]

Algonquin Gas Transmission, LLC; Notice of Availability of the Final Environmental Impact Statement for the Proposed Algonquin Incremental Market Project

The staff of the Federal Energy Regulatory Commission (FERC or Commission) has prepared a final environmental impact statement (EIS) for the Algonquin Incremental Market Project (AIM Project), proposed by Algonquin Gas Transmission, LLC (Algonquin) in the above-referenced docket. Algonquin requests authorization to expand its existing pipeline system from an interconnection at Ramapo, New York to deliver up to 342,000 dekatherms per day of natural gas transportation service to the Connecticut, Rhode Island, and Massachusetts markets.

The final EIS assesses the potential environmental effects of the construction and operation of the AIM Project in accordance with the requirements of the National Environmental Policy Act (NEPA). The FERC staff concludes that approval of the proposed project would result in some adverse environmental impacts; however, most of these impacts would be reduced to less-than-significant levels with the implementation of Algonquin's proposed mitigation and the additional measures recommended in the final EIS.

The U.S. Environmental Protection Agency, the U.S. Army Corps of Engineers, and the U.S. Department of Transportation's Pipeline and Hazardous Materials Safety Administration participated as cooperating agencies in the preparation of the EIS. Cooperating agencies have jurisdiction by law or special expertise with respect to resources potentially affected by the proposal and participate in the NEPA analysis. Although the cooperating agencies provided input to the conclusions and recommendations presented in the final EIS, the agencies will present their own conclusions and recommendations in their respective records of decision or determinations for the AIM Project.

The final EIS addresses the potential environmental effects of the construction and operation of about 37.4 miles of pipeline composed of the following facilities:

• Replacement of 26.3 miles of existing pipeline with a 16- and 42-inch-diameter pipeline;

• extension of an existing loop ¹ pipeline with about 3.3 miles of additional 12- and 36-inch-diameter pipeline within Algonquin's existing right-of-way; and

¹ A pipeline loop is a segment of pipe constructed parallel to an existing pipeline to increase capacity.

• installation of about 7.8 miles of new 16-, 24-, and 42-inch-diameter pipeline.

The AIM Project's proposed aboveground facilities consist of modifications to six existing compressor stations, to add a total 81,620 horsepower, in New York, Connecticut, and Rhode Island. Algonquin also proposes to abandon four existing compressor units for a total of 10,800 horsepower at one compressor station in New York.

The FERC staff mailed copies of the final EIS to federal, state, and local government representatives and agencies; elected officials; environmental and public interest groups; Native American tribes; potentially affected landowners and other interested individuals and groups; newspapers and libraries in the area of the project; and parties to this proceeding. Paper copy versions of this final EIS were mailed to those specifically requesting them; all others received a CD version. However, we note that due to its voluminous size, the comment responses are provided as an electronic-only volume (Volume II) on a CD that was mailed to the entire mailing list. In addition, the final EIS is available for public viewing on the FERC's Web site (www.ferc.gov) using the eLibrary link. A limited number of copies are available for distribution and public inspection at: Federal Energy Regulatory Commission, Public Reference Room, 888 First Street NE., Room 2A, Washington, DC 20426, (202) 502-8371.

In accordance with the Council on Environmental Quality's (CEQ) regulations implementing the NEPA, no agency decision on a proposed action may be made until 30 days after the U.S. Environmental Protection Agency publishes a notice of availability of a final EIS. However, the CEQ regulations provide an exception to this rule when an agency decision is subject to a formal internal appeal process that allows other agencies or the public to make their views known. In such cases, an agency decision may be made at the same time the notice of the final EIS is published, allowing both periods to run concurrently. The Commission decision for this proposed action is subject to a 30-day rehearing period.

Additional information about the proposed project is available from the Commission's Office of External Affairs, at (866) 208-FERC, or on the FERC Web site (www.ferc.gov) using the eLibrary link. Click on the eLibrary link, click on “General Search,” and enter the docket number excluding the last three digits in the Docket Number field (i.e., CP14-96). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: January 23, 2015.
Kimberly D. Bose,
Secretary.

[FR Doc. 2015-01730 Filed 1-29-15; 8:45 am]

BILLING CODE 6717-01-P